ENVIRONMENTAL PROTECTION AGENCY

[EPA R9-2022-01; FRL-9853-01-R9]

Notice of Proposed Administrative Settlement Agreement for Recovery of Past Response Costs at the Omega Chemical Corporation Superfund Site in Los Angeles County, California

AGENCY: Environmental Protection Agency (EPA).

ACTION: Notice of proposed settlement; request for public comment.

SUMMARY: In accordance with the Comprehensive Environmental Response, Compensation and Liability Act of 1980, as amended (“CERCLA”), notice is hereby given that the Environmental Protection Agency (EPA), has entered into a proposed settlement, embodied in an Administrative Settlement Agreement for Recovery of Past Response Costs (“Settlement Agreement”), with Powerine Oil Company and Lakeland Development Company. Under the Settlement Agreement, Powerine and Lakeland agree to pay a total of $150,000 to reimburse EPA for costs EPA has incurred at the Omega Chemical Corporation Superfund Site (“Omega”).

DATES: Comments must be received on or before July 25, 2022.

ADDRESSES: Please contact Michael Massey at massey.michael@epa.gov or (415) 972-3034 to request a copy of the Settlement Agreement. Comments on the Settlement Agreement should be submitted in writing to Mr. Massey at massey.michael@epa.gov. Comments should reference the Omega Site and the EPA Docket Number for the Settlement Agreement, EPA R9-2022-01. If for any reason you are not able to submit a comment by email, please contact Mr. Massey at (415) 972-3043 to make alternative arrangements for submitting your comment. EPA will post its response to comments at https://cumulis.epa.gov/supercpad/cursites/csitinfo.cfm?id=0903349, EPA's web page for the Omega Site.

FOR FURTHER INFORMATION CONTACT: Michael Massey, Assistant Regional Counsel (ORC-3), Office of Regional Counsel, U.S. EPA Region IX, 75 Hawthorne Street, San Francisco, CA 94105; Email: massey.michael@epa.gov; Phone (415) 972-3034.

SUPPLEMENTARY INFORMATION: Notice of this proposed Settlement Agreement is made in accordance with Section 122(i) of CERCLA, 42 U.S.C. 9622(i). The Settlement Agreement concerns costs incurred by EPA in connection with Omega, a CERCLA response action in Los Angeles County, California, where groundwater contamination has come to be located. Powerine and Lakeland, which agree to pay EPA a total of $150,000, are the only parties to the Settlement Agreement. EPA has collected costs from other responsible parties at Omega and intends further cost recovery from additional parties in the future; however, because EPA is not recovering one hundred percent of its past costs at this time, this Settlement Agreement represents a compromise of EPA's costs. The settlement includes a covenant not to sue pursuant to Sections 106 and 107(a) of CERCLA, 42 U.S.C 9606 and 9607(a).

EPA will consider all comments received on the Settlement Agreement in accordance with the DATES and ADDRESSES sections of this Notice and may modify or withdraw its consent to the Settlement Agreement if comments received disclose facts or considerations that indicate that the settlement is inappropriate, improper, or inadequate.

Dated: June 15, 2022.
Michael Montgomery,
Director, Superfund and Emergency Management Division, Region 9.

[FR Doc. 2022-13380 Filed 6-22-22; 8:45 am]

BILLING CODE 6560-50-P